DEPARTMENT OF HEALTH AND HUMAN SERVICES

Office of the Secretary

[Document Identifier: OS-0937-0025]

Agency Information Collection Activities: Submission for OMB Review; Comment Request

Agency: Office of the Secretary, HHS.

In compliance with the requirement of section 3506(c)(2)(A) of the Paperwork Reduction Act of 1995, the Office of the Secretary, Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Revision of Currently Approved collection.

Title of Information Collection: Application for Appointment as a Commissioned Officer in the U.S. Public Health Service Commissioned Corps and Supporting Regulations 42 CFR 21.22 through 42 CFR 21.34.

Form/OMB No.: OS-0937-0025.

Use: The PHS-50, Application for Appointment as a Commissioned Officer in the United States Public Health Service, is used to determine if an applicant is qualified for appointment in the Commissioned Corps of the Public Health Service (PHS). In addition, the information contained in PHS-50 establishes the basis for future assignments and benefits as a commissioned officer. The PHS-1813, Reference Request for Applicants to the U.S. Public Health Service Commissioned Corps, is used to obtain reference information concerning applicants for appointment in the Commissioned Corps of the PHS. Each applicant is required to provide four references.

Frequency: On occasion.

Affected Public: Individuals or households.

Annual Number of Respondents: 10,000 (PHS-50 2,000), (PHS-1813 8,000).

Total Annual Responses: 10,000.

Average Burden Per Response: 1 hour (PHS-50 1 hour), (PHS-1813 25 minutes).

Total Annual Hours: 4,000.

To obtain copies of the supporting statement and any related forms for the proposed paperwork collections referenced above, access the HHS Web site address at http://www.hhs.gov/oirm/infocollect/pending/ or e-mail your request, including your address, phone number, OS document identifier, to John.Burke@hhs.gov, or call the Reports Clearance Office on (202) 690-8356. Written comments and recommendations for the proposed information collections must be mailed within 30 days of this notice directly to the OMB desk officer: OMB Human Resources and Housing Branch, Attention: Allison Eydt (OMB #0937-0025), New Executive Office Building, Room 10235, Washington, DC 20503.

Dated: July 24, 2003.
John P. Burke, III,
Paperwork Reduction Act Reports Clearance Officer, Office of the Secretary, Department of Health and Human Services.

[FR Doc. 03-19827 Filed 8-4-03; 8:45 am]

BILLING CODE 4150-04-P